DEPARTMENT OF VETERANS AFFAIRS

[OMB Control No. 2900-0620]

Proposed Information Collection Activity: Proposed Collection; Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on the regulation that allows veterans, veterans representatives and health care providers to submit data to request reimbursement from the Federal Government for emergency services at a private institution.

DATES: Written comments and recommendations on the proposed collection of information should be received on or before December 26, 2001.

ADDRESSES: Submit written comments on the collection of information to Ann Bickoff, Veterans Health Administration (193B1), Department of Veterans Affairs, 810 Vermont Avenue, NW, Washington, DC 20420 or e-mail: ann.bickoff@mail.va.gov. Please refer to “OMB Control No. 2900-0620” in any correspondence.

FOR FURTHER INFORMATION CONTACT: Ann Bickoff at (202) 273-8310.

SUPPLEMENTARY INFORMATION: Under the PRA of 1995 (Public Law 104-13; 44 U.S.C., 3501-3520), Federal agencies must obtain approval from the Office of Management and Budget (OMB) for each collection of information they conduct or sponsor. This request for comment is being made pursuant to section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Emergency Care Authorization Regulations.

OMB Control Number: 2900-0620.

Type of Review: Extension of a currently approved collection.

Abstract: This information would be needed for VA to decide claims for reimbursement or payment from a veterans, a hospital or other entity that furnished non-VA emergency treatment or transportation to the veteran or a person or organization that paid for such treatment or transportation on behalf of the veterans. VA would use the information and certifications submitted to process claims for such reimbursement or payment.

Affected Public: Individuals or households, business or other for-profit and not-for-profit institutions.

Estimated Total Annual Burden: 120,729 hours.

Estimated Average Burden Per Respondent: 30 minutes.

Frequency of Response: On occasion.

Estimated Number of Respondents: 241,457.

Dated: October 11, 2001.
By direction of the Secretary.
Barbara H. Epps,
Management Analyst, Information Management Service.

[FR Doc. 01-26996 Filed 10-25-01; 8:45 am]

BILLING CODE 8320-01-P